DEPARTMENT OF ENERGY

Federal Energy Regulatory Commission

Combined Notice of Filings #1

Take notice that the Commission received the following electric rate filings:

Docket Numbers: ER16-1609-001.

Applicants: ID SOLAR 1, LLC.

Description: Report Filing: Supplement to 2 to be effective N/A.

Filed Date: 8/17/16.

Accession Number: 20160817-5350.

Comments Due: 5 p.m. ET 9/7/16.

Docket Numbers: ER16-1888-002.

Applicants: Tidal Energy Marketing Inc.

Description: Tariff Amendment: Amendment to be effective 8/6/2016.

Filed Date: 8/17/16.

Accession Number: 20160817-5330.

Comments Due: 5 p.m. ET 8/31/16.

Docket Numbers: ER16-2436-000.

Applicants: Mesquite Solar 3, LLC.

Description: § 205(d) Rate Filing: Notice of Non-Material Change in Status to be effective 5/20/2016.

Filed Date: 8/16/16.

Accession Number: 20160816-5228.

Comments Due: 5 p.m. ET 9/6/16.

Docket Numbers: ER16-2437-000.

Applicants: Alcoa Power Generating Inc.

Description: Alcoa Power Generating Inc. (Tapoca Division) submits Request for Waiver of Order No. 1000 Requirements.

Filed Date: 8/16/16.

Accession Number: 20160816-5272.

Comments Due: 5 p.m. ET 9/6/16.

Docket Numbers: ER16-2438-000.

Applicants: Pedricktown Cogeneration Company LP.

Description: Compliance filing: Reactive Service Resubmittal to be effective 9/13/2016.

Filed Date: 8/17/16.

Accession Number: 20160817-5382.

Comments Due: 5 p.m. ET 9/7/16.

Docket Numbers: ER16-2439-000.

Applicants: H.A. Wagner LLC.

Description: Compliance filing: Reactive Tariff Resubmittal to be effective 9/13/2016.

Filed Date: 8/17/16.

Accession Number: 20160817-5386.

Comments Due: 5 p.m. ET 9/7/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 17, 2016.
Kimberly D. Bose,
Secretary.

[FR Doc. 2016-20280 Filed 8-23-16; 8:45 am]

BILLING CODE 6717-01-P